DEPARTMENT OF HOMELAND SECURITY

Federal Emergency Management Agency

44 CFR Part 67

[Docket ID FEMA-2010-0003; Internal Agency Docket No. FEMA-B-1095]

Proposed Flood Elevation Determinations

AGENCY: Federal Emergency Management Agency, DHS.

ACTION: Proposed rule; correction.

SUMMARY: On May 21, 2010, FEMA published in the Federal Register a proposed rule that contained an erroneous table. This notice provides corrections to that table, to be used in lieu of the information published at 75 FR 28511. The table provided here represents the flooding sources, location of referenced elevations, effective and modified elevations, and communities affected for Muhlenberg County, Kentucky and Incorporated Areas. Specifically, it addresses the following flooding sources: Brier Creek (backwater effects from Green River), Caney Creek, Caney Creek Tributary 27.1 (backwater effects from Caney Creek), Caney Creek Tributary 31 (backwater effects from Caney Creek), Canfield Branch (backwater effects from Green River), Cypress Creek (backwater effects from Green River), Cypress Creek Tributary 1 (backwater effects from Green River), Green River, Irwin Creek (backwater effects from Green River), Isaacs Creek (backwater effects from Green River), Jacobs Creek (backwater effects from Green River), Jacobs Creek Tributary 7 (backwater effects from Green River), Little Cypress Creek, Little Cypress Creek Tributary 16 (backwater effects from Little Cypress Creek), Little Cypress Creek Tributary 8 (backwater effects from Little Cypress Creek), Log Creek (backwater effects from Green River), Mud River (backwater effects from Green River), Muddy Fork (backwater effects from Green River), Nelson Creek (backwater effects from Green River), Opossum Run (backwater effects from Sandlick Creek), Plum Creek (backwater effects from Green River), Plum Creek Tributary 5 (backwater effects from Green River), Pond Creek (backwater effects from Green River), Pond Creek (backwater effects from Sandlick Creek), Pond Creek Tributary 29 (backwater effects from Green River), Pond Creek Tributary 30 (backwater effects from Green River), Pond River (backwater effects from Green River) and Sandlick Creek Tributary 2 (backwater effects from Sandlick Creek).

DATES: Comments are to be submitted on or before December 17, 2012.

ADDRESSES: You may submit comments, identified by Docket No. FEMA-B-1095, to Luis Rodriguez, Chief, Engineering Management Branch, Federal Insurance and Mitigation Administration, Federal Emergency Management Agency, 500 C Street SW., Washington, DC 20472, (202) 646-4064 or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064 or (email) Luis.Rodriguez3@fema.dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Corrections

In the proposed rule published at 75 FR 28511, in the May 21, 2010, issue of the Federal Register, FEMA published a table under the authority of 44 CFR 67.4. The table, entitled “Muhlenberg County, Kentucky, and Incorporated Areas” addressed the following flooding sources: Brier Creek (backwater effects from Green River), Caney Creek, Caney Creek Tributary 27.1 (backwater effects from Caney Creek), Caney Creek Tributary 31 (backwater effects from Caney Creek), Canfield Branch (backwater effects from Green River), Cypress Creek (backwater effects from Green River), Cypress Creek Tributary 1 (backwater effects from Green River), Green River, Irwin Creek (backwater effects from Green River), Isaacs Creek (backwater effects from Green River), Jacobs Creek (backwater effects from Green River), Jacobs Creek Tributary 7 (backwater effects from Green River), Little Cypress Creek, Little Cypress Creek Tributary 16 (backwater effects from Little Cypress Creek), Little Cypress Creek Tributary 8 (backwater effects from Little Cypress Creek), Log Creek (backwater effects from Green River), Mud River (backwater effects from Green River), Muddy Fork (backwater effects from Green River), Nelson Creek (backwater effects from Green River), Opossum Run (backwater effects from Sandlick Creek), Plum Creek (backwater effects from Green River), Plum Creek Tributary 5 (backwater effects from Green River), Pond Creek (backwater effects from Green River), Pond Creek (backwater effects from Sandlick Creek), Pond Creek Tributary 29 (backwater effects from Green River), Pond Creek Tributary 30 (backwater effects from Green River), Pond River (backwater effects from Green River) and Sandlick Creek Tributary 2 (backwater effects from Sandlick Creek). That table contained inaccurate information as to the communities affected for the flooding source the Green River. In this notice, FEMA is publishing a table containing the accurate information, to address these prior errors. The information provided below should be used in lieu of that previously published.

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Muhlenberg County, Kentucky, and Incorporated Areas
Brier Creek (backwater effects from Green River) | From the confluence with Pond River to approximately 1,390 feet downstream of Phillips Town Road | None | +389 | Unincorporated Areas of Muhlenberg County.
Caney Creek | Approximately 0.5 mile upstream of North Main Street | None | +413 | City of Greenville, Unincorporated Areas of Muhlenberg County.
| At the Caney Creek Tributary 27 confluence | None | +423
Caney Creek Tributary 27.1 (backwater effects from Caney Creek) | From the Caney Creek confluence to approximately 0.7 mile upstream of the Caney Creek confluence | None | +424 | City of Greenville, Unincorporated Areas of Muhlenberg County.
Caney Creek Tributary 31 (backwater effects from Caney Creek) | From the Caney Creek confluence to approximately 0.6 mile upstream of the Caney Creek confluence | None | +413 | Unincorporated Areas of Muhlenberg County.
Canfield Branch (backwater effects from Green River) | From the Mud River confluence to approximately 340 feet upstream of Forest Oak Church Road | None | +404 | Unincorporated Areas of Muhlenberg County.
Cypress Creek (backwater effects from Green River) | From approximately 0.6 mile downstream of KY-175 to approximately 0.7 mile upstream of KY-81 | None | +393 | Unincorporated Areas of Muhlenberg County.
Cypress Creek Tributary 1 (backwater effects from Green River) | From the Cypress Creek confluence to approximately 0.8 mile upstream of Coffman Schoolhouse Road | None | +393 | Unincorporated Areas of Muhlenberg County.
Green River | At the confluence with Mud River | +394 | +393 | City of South Carrollton, Unincorporated Areas of Muhlenberg County.
| Approximately 2.6 miles upstream of CSX Railroad | +403 | +404
Irwin Creek (backwater effects from Green River) | From the Isaacs Creek confluence to approximately 2,000 feet upstream of the Isaacs Creek confluence | None | +389 | Unincorporated Areas of Muhlenberg County.
Isaacs Creek (backwater effects from Green River) | From the Green River confluence to approximately 1,035 feet upstream of the Irwin Creek confluence | None | +389 | Unincorporated Areas of Muhlenberg County.
Jacobs Creek (backwater effects from Green River) | From the Green River confluence to approximately 2.0 miles upstream of Riverside Road | None | +402 | Unincorporated Areas of Muhlenberg County.
Jacobs Creek Tributary 7 (backwater effects from Green River) | From the Jacobs Creek confluence to approximately 370 feet upstream of Riverside Road | None | +402 | Unincorporated Areas of Muhlenberg County.
Little Cypress Creek | Approximately 190 feet upstream of West Whitmer Street | None | +405 | Unincorporated Areas of Muhlenberg County, City of Central City.
| Just upstream of Front Street | None | +408
Little Cypress Creek Tributary 16 (backwater effects from Little Cypress Creek) | From the Little Cypress Creek confluence to approximately 2,507 feet upstream of the Little Cypress Creek confluence | None | +405 | City of Central City, Unincorporated Areas of Muhlenberg County.
Little Cypress Creek Tributary 8 (backwater effects from Little Cypress Creek) | From the Little Cypress Creek confluence to approximately 1,100 feet upstream of the Little Cypress Creek confluence | None | +422 | Unincorporated Areas of Muhlenberg County.
Log Creek (backwater effects from Green River) | From the Pond River confluence to approximately 3,900 feet upstream of Millport Sacramento Road | None | +389 | Unincorporated Areas of Muhlenberg County.
Mud River (backwater effects from Green River) | From the Green River confluence to approximately 535 feet upstream of the Canfield Branch confluence | None | +404 | Unincorporated Areas of Muhlenberg County.
Muddy Fork (backwater effects from Green River) | From the Cypress Creek confluence to approximately 0.8 mile upstream of the Cypress Creek confluence | None | +393 | Unincorporated Areas of Muhlenberg County.
Nelson Creek (backwater effects from Green River) | From the Green River confluence to approximately 0.4 mile upstream of Green River Haul Road | None | +398 | Unincorporated Areas of Muhlenberg County.
Opossum Run (backwater effects from Sandlick Creek) | From the Sandlick Creek confluence to approximately 1,175 feet upstream of Opossum Lane | None | +430 | Unincorporated Areas of Muhlenberg County.
Plum Creek (backwater effects from Green River) | From the Pond Creek confluence to approximately 300 feet downstream of the Plum Creek Tributary 4 confluence | None | +401 | City of Drakesboro, Unincorporated Areas of Muhlenberg County.
Plum Creek Tributary 5 (backwater effects from Green River) | From the Plum Creek confluence to approximately 0.65 mile upstream of the Plum Creek confluence | None | +401 | Unincorporated Areas of Muhlenberg County.
Pond Creek (backwater effects from Green River) | From the Green River confluence to approximately 1,280 feet upstream of I-431 | None | +401 | Unincorporated Areas of Muhlenberg County.
Pond Creek (backwater effects from Sandlick Creek) | From the Sandlick Creek confluence to just downstream of Johnson Road | +422 | +421 | Unincorporated Areas of Muhlenberg County.
Pond Creek Tributary 29 (Backwater effects from Green River) | From the Pond Creek confluence to approximately 1,000 feet upstream of KY-2107 | None | +401 | Unincorporated Areas of Muhlenberg County.
Pond Creek Tributary 30 (backwater effects from Green River) | From the Pond Creek confluence to approximately 1.4 miles upstream of the Pond Creek confluence | None | +401 | Unincorporated Areas of Muhlenberg County.
Pond River (backwater effects from Green River) | From the Green River confluence to approximately 1.0 mile upstream of KY-70 | None | +389 | Unincorporated Areas of Muhlenberg County.
Sandlick Creek Tributary 2 (backwater effects from Sandlick Creek) | From the Sandlick Creek confluence to approximately 1,600 feet upstream of the Sandlick Creek confluence | None | +449 | Unincorporated Areas of Muhlenberg County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
City of Central City
Maps are available for inspection at City Hall, 214 North 1st Street, Central City, KY 42330.
City of Drakesboro
Maps are available for inspection at City Hall, 212 West Mose Rager Boulevard, Drakesboro, KY 42337.
City of Greenville
Maps are available for inspection at City Hall, 118 Court Street, Greenville, KY 42345.
City of South Carrollton
Maps are available for inspection at City Hall, 10515 U.S. Route 431, South Carrollton, KY 42374.
Unincorporated Areas of Muhlenberg County
Maps are available for inspection at the Muhlenberg County Judicial Building, 136 South Main Street, Greenville, KY 42345.

(Catalog of Federal Domestic Assistance No. 97.022, “Flood Insurance.”)

Dated: August 23, 2012.
Sandra K. Knight,
Deputy Associate Administrator for Mitigation, Department of Homeland Security, Federal Emergency Management Agency.

[FR Doc. 2012-22897 Filed 9-14-12; 8:45 am]

BILLING CODE 9110-12-P